DEPARTMENT OF THE INTERIOR

Bureau of Land Management

[WY-920-1320-EL]

Powder River Regional Coal Team Activities: Notice of Public Meeting in Casper, WY

AGENCY: Bureau of Land Management, Interior.

ACTION: Notice of public meeting.

SUMMARY: The Powder River Regional Coal Team (RCT) has scheduled a public meeting for December 6, 2007, to review current and proposed activities in the Powder River Coal Region and to review pending coal lease applications (LBA).

DATES: The RCT meeting will begin at 9 a.m. MST on December 6, 2007. The meeting is open to the public.

ADDRESSES: The meeting will be held at the Wyoming Oil and Gas Conservation Commission, 2211 King Boulevard, Casper, Wyoming.

FOR FURTHER INFORMATION CONTACT: Robert Janssen, Regional Coal Coordinator, BLM Wyoming State Office, Division of Minerals and Lands, 5353 Yellowstone Road, Cheyenne, Wyoming 82009: telephone 307-775-6206 or Rebecca Spurgin, Regional Coal Coordinator, BLM Montana State Office, Division of Resources, 5001 Southgate Drive, Billings, Montana 59101: telephone 406-896-5080.

SUPPLEMENTARY INFORMATION: The purpose of the meeting is to discuss pending coal lease by applications (LBA's) in the Powder River Basin as well as other Federal coal related actions in the region. Specific coal lease applications and other matters for the RCT to consider include:

1. The Porcupine LBA, a lease application filed by BTU Western Resources on September 27, 2006, which is adjacent to the North Antelope-Rochelle mine. This application was reviewed by the RCT at a public meeting on January 18, 2007. At that time, approximately 5,116 acres and 598 million tons of Federal coal were included in the application. The applicant now wishes to amend this application. More details will be presented at the meeting. The RCT needs to consider the BLM processing schedule for the Porcupine LBA.

2. The BLM is doing a coal review study in the Powder River Basin. The results of this study will be used in the preparation of coal related NEPA documents in the Powder River coal region. The RCT will be updated on the progress and results of this study.

3. Update on U.S. Geological Survey coal inventory work.

4. Update on BLM land use planning efforts in the Powder River Basin of Wyoming and Montana.

5. Other Coal Lease Applications and issues that may arise prior to the meeting.

The RCT may generate recommendation(s) for any or all of these topics and other topics that may arise prior to the meeting date.

The meeting will serve as a forum for public discussion on Federal coal management issues of concern in the Powder River Basin region. Any party interested in providing comments or data related to the above pending applications, or any party proposing other issues to be considered by the RCT, may either do so in writing to the State Director (922), BLM Wyoming State Office, 5353 Yellowstone Road, Cheyenne, WY 82009, no later than November 21, 2007, or by addressing the RCT with his/her concerns at the meeting on December 6, 2007.

The draft agenda for the meeting follows:

1. Introduction of RCT Members and guests.

2. Approval of the Minutes of the January 18, 2007 Regional Coal Team meeting held in Casper, Wyoming.

3. Coal activity since the last RCT meeting.

4. Industry Presentations on Lease Applications: BTU Western Resources, Modification of the Porcupine LBA.

5. BLM presentation on Powder River Basin coal review study.

6. U.S. Geological Survey presentation on Coal Inventory.

7. BLM land use planning efforts.

8. Other pending coal actions and other discussion items that may arise.

9. Discussion of the next meeting.

10. Adjourn.

Dated: October 22, 2007.
Robert A. Bennett,
State Director.

[FR Doc. E7-21145 Filed 10-25-07; 8:45 am]

BILLING CODE 4310-22-P